DEPARTMENT OF ENERGY

Federal Energy Regulatory Commission

[Docket No. EL13-9-000]

American Transmission Company LLC v. Midwest Independent Transmission System Operator, Inc., Xcel Energy Services Inc,. Northern States Power Company, a Wisconsin Corporation, Northern States Power Company, a Minnesota Corporation; Notice of Complaint

Take notice that on October 1, 2012, American Transmission Company LLC (ATC), by its corporate manager, ATC Management Inc. (collectively, ATCLLC) (Complainant) filed a formal complaint against Midwest Independent Transmission System Operator, Inc. (MISO) and Xcel Energy Services Inc., on behalf of its operating company affiliates Northern States Power Company Wisconsin (NSPW) and Northern States Power Company Minnesota (NSPM) (collectively, Xcel Energy) (Respondent), pursuant to section 306 of the Federal Power Act, 16 U.S.C. 825e (2006), and Rule 206 of the Commission's Rules of Practice and Procedure, 18 CFR 385.206 (2012). The complaint alleges that, pursuant to relevant provisions of the MISO Tariff and the MISO Transmission Owners Agreement, ATC and the Xcel Energy (on behalf of NSPM and NSPW) are each entitled to own and construct fifty percent of the 345 kV facilities from the Twin Cities area in Minnesota to the Madison area in Wisconsin.

ATCLLC certifies that copies of the complaint were served on the contacts for Xcel Energy and the state public utility commissions of Minnesota and Wisconsin.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on October 22, 2012.

Dated: October 3, 2012.
Kimberly D. Bose,
Secretary.

[FR Doc. 2012-24907 Filed 10-9-12; 8:45 am]

BILLING CODE 6717-01-P